DEPARTMENT OF HEALTH AND HUMAN SERVICES

Centers for Disease Control and Prevention

[60Day-17-1039; Docket No. CDC-2017-0040]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed revision to the information collection project titled “Information Collection on Cause-Specific Absenteeism in Schools.” Changes include a revised title. The proposed title is “Information Collection on Cause-Specific Absenteeism in Schools and Evaluation of Influenza Transmission within Student Households.” The project will continue to address the original aim of improving our understanding of the role of influenza-like illness (ILI)—specific absenteeism in schools in predicting community-wide influenza transmission.

DATES: Written comments must be received on or before June 26, 2017.

ADDRESSES: You may submit comments, identified by Docket No. CDC-2017-0040 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Information Collection on Cause-Specific Absenteeism in Schools and Evaluation of Influenza Transmission within Student Households (OMB Control Number 0920-1039; expires 12/31/2017)—Revision—National Center for Emerging and Zoonotic Infectious Diseases (NCEZID), Centers for Disease Control and Prevention (CDC).

Background and Brief Description

The CDC's Division of Global Migration and Quarantine (DGMQ), requests approval of an information collection project that will allow for improved understanding of the role of influenza-like illness (ILI)-specific absenteeism in schools in predicting community-wide influenza transmission. The collection will also allow for within-household influenza transmission where students have been absent from school due to ILI. CDC is seeking three-year clearance to collect this data.

Since receiving Office of Management and Budget (OMB) approval in December 2014, CDC enrolled 651 students in the study. Of them, 58% were positive for at least one respiratory pathogen included in the Polymerase chain reaction (PCR) panel that tests for presence of 17 common respiratory viruses, and 27% of the students were found to be positive for influenza. It was demonstrated that absenteeism due to ILI in school children was highly correlated with PCR-confirmed influenza in enrolled school children and with medically-attended influenza in the surrounding community suggesting that ILI-specific school absenteeism can be considered a useful tool for predicting influenza outbreaks in the surrounding community. However, more observations during influenza seasons caused by other influenza strains are needed to make these findings more robust.

The information collection for which approval is sought is in accordance with CDC's and DGMQ's missions to reduce morbidity and mortality in mobile populations, and to prevent the introduction, transmission, or spread of communicable diseases within the United States. Insights gained from this information collection will assist in the planning and implementation of CDC Pre-Pandemic Guidance on the use of school related measures, including school closures, to slow transmission during an influenza pandemic.

School closures were considered an important measure during the earliest stage of the 2009 H1N1 pandemic, because a pandemic vaccine was not available until October (6 months later), and sufficient stocks to immunize all school-age children were not available until December. However, retrospective review of the U.S. government response to the pandemic identified a limited evidence-base regarding the effectiveness, acceptability, and feasibility of various school related measures during mild or moderately severe pandemics. Guidance updates will require an evidence-based rationale for determining the appropriate triggers, timing, and duration of school related measures, including school closures, during a pandemic.

CDC staff proposes that the revised information collection for this package will target adult and child populations in a school district in Wisconsin. CDC will continue collecting reports from students absent from school due to ILI including information on individual student symptoms, vaccination status, recent travel, recent exposure to people with influenza symptoms, and duration of illness. The proposed revision will include collecting data from household members of students absent from school due to ILI. Household members will provide information on household composition, individual influenza vaccination status, presence of ILI symptoms, severity of illness, related healthcare visits, diagnosis and treatment, and missed work or school. This will be accomplished through telephone and in-person interviews.

Findings obtained from this information collection will be used to inform and update CDC's Pre-pandemic Guidance on the implementation of school related measures to prevent the spread of influenza, especially school closures. The Guidance is used as an important planning and reference tool for both State and local health departments in the United States.

There is no cost to respondents other than their time. The estimated annualized number of burden hours are 365.

Authorizing legislation includes Section 361 of the Public Health Service Act (42 U.S.C. 264) and Section 301 of the Public Health Service Act (42 U.S.C. 241).

Estimated Annualized Burden Hours
Type of respondent | Form name | Number of respondents | Number of responses per respondent | Average burden per response (in hours) | Total burden hours
Parents | Screening Form | 300 | 1 | 5/60 | 25
| Acute Respiratory Infection and Influenza Surveillance Form | 300 | 1 | 15/60 | 75
Students | Biospecimen collection | 300 | 1 | 5/60 | 25
Household members | Household Study Form Part 1 (Day 0) | 720 | 1 | 10/60 | 120
| Household Study Form Part 2 (Day 7) | 720 | 1 | 10/60 | 120
Total |  |  |  |  | 365

Leroy A. Richardson,
Chief, Information Collection Review Office, Office of Scientific Integrity, Office of the Associate Director for Science, Office of the Director, Centers for Disease Control and Prevention.

[FR Doc. 2017-08492 Filed 4-26-17; 8:45 am]

BILLING CODE 4163-18-P